SMALL BUSINESS ADMINISTRATION

[Declaration of Economic Injury Disaster #9O14]

State of Florida

Charlotte and Lee Counties and the contiguous counties of Collier, De Soto, Glades, Hendry, Highlands, and Sarasota in the State of Florida constitute an economic injury disaster loan area as a result of a Red Tide condition and subsequent closure of the Gasparilla Sound beginning August 22, 2001 and continuing. Eligible small businesses and small agricultural cooperatives without credit available elsewhere may file applications for economic injury assistance as a result of this disaster until the close of business on October 17, 2002, at the address listed below or other locally announced locations:

U.S. Small Business Administration, Disaster Area 2 Office, One Baltimore Place, Suite 300, Atlanta, GA 30308.

The interest rate for eligible small businesses and small agricultural cooperatives is 4 percent.

The number assigned for economic injury for the State of Florida is 9O1400.

(Catalog of Federal Domestic Assistance Program No. 59002)
Dated: January 17, 2002.
Hector V. Barreto,
Administrator.

[FR Doc. 02-1894 Filed 1-24-02; 8:45 am]

BILLING CODE 8025-01-P